SMALL BUSINESS ADMINISTRATION

[Disaster Declaration #16421 and #16422; MISSISSIPPI Disaster Number MS-00124 Presidential]

Declaration Amendment of a Major Disaster for the State of Mississippi

AGENCY: U.S. Small Business Administration.

ACTION: Amendment 1.

SUMMARY: This is an amendment of the Presidential declaration of a major disaster for the State of Mississippi (FEMA-4536-DR), dated 04/16/2020.

Incident: Severe Storms, Tornadoes, Straight-line Winds, and Flooding.

Incident Period: 04/12/2020.

DATES: Issued on 05/08/2020.

Physical Loan Application Deadline Date: 06/15/2020.

Economic Injury (EIDL) Loan Application Deadline Date: 01/19/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of MISSISSIPPI, dated 04/16/2020, is hereby amended to include the following areas as adversely affected by the disaster:

Primary Counties (Physical Damage and Economic Injury Loans): Clarke, Grenada, Jasper, Lawrence, Panola, Walthall.

Contiguous Counties (Economic Injury Loans Only):

Alabama: Choctaw.

Louisiana: Washington.

Mississippi: Calhoun, Carroll, Copiah, Lafayette, Lauderdale, Leflore, Lincoln, Montgomery, Newton, Pike, Quitman, Scott, Tallahatchie, Tate, Tunica, Webster, Yalobusha.

All other information in the original declaration remains unchanged.

(Catalog of Federal Domestic Assistance Number 59008)

Cynthia Pitts,
Acting Associate Administrator for Disaster Assistance.

[FR Doc. 2020-10524 Filed 5-15-20; 8:45 am]

BILLING CODE 8026-03-P